DEPARTMENT OF EDUCATION

[CFDA No. 84.019A]

Office of Postsecondary Education; Fulbright-Hays Faculty Research Abroad Fellowship Program; Notice Inviting Applications for New Awards for Fiscal Year (FY) 2003

Purpose of Program: The Faculty Research Abroad Fellowship Program offers opportunities to faculty members of institutions of higher education for research and study in modern foreign languages and area studies.

For FY 2003 the competition for new awards focuses on projects designed to meet the priority we describe in the PRIORITY section of this application notice.

Eligible Applicants: Institutions of higher education.

Applications Available: September 25, 2002.

Deadline for Transmittal of Applications: October 25, 2002.

Estimated Available Funds: The Administration has requested $1,575,000 for this program for FY 2003. The actual level of funding, if any, depends on final congressional action. However, we are inviting applications to allow enough time to complete the grant process if Congress appropriates funds for this program.

Estimated Range of Awards: $20,000—$100,000.

Estimated Average Size of Fellowship Awards: $47,727.

Estimated Number of Awards: 33 fellowships.

Note: The Department is not bound by any estimates in this notice.

Project Period: The institutional project period is 18 months beginning July 1, 2003. Faculty may request funding for 3—12 months.

Page Limit: The application narrative is where the faculty applicant addresses the selection criteria that reviewers use to evaluate the application. The faculty applicant must limit the narrative to the equivalent of no more than 10 pages, and the references to the equivalent of no more than 2 pages, using the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12-point or larger or no smaller than 10 pitch (characters per inch). The page limit does not apply to the cover sheet; the budget section, including the narrative budget justification; the assurances and certifications; or the references. However, you must include all of the application narrative in responding to the selection criteria.

We will reject your application if—

• You apply these standards and exceed the page limit; or

• You apply other standards and exceed the equivalent of the page limit.

Applicable Regulations: (a) The Education Department General Administrative Regulations (EDGAR) in 34 CFR parts 74, 75, 77, 81, 82, 85, 86, 97, 98, and 99; and (b) The regulations for this program in 34 CFR part 663.

Priority

This competition focuses on projects designed to meet a priority in the regulations for this program (34 CFR 663.21(d)), which provides that priorities may be established for certain geographic areas in addition to certain other categories.

Absolute Priority

A research project that focuses on one or more of the following areas: Africa, East Asia, Southeast Asia and the Pacific, South Asia, the Near East, East Central Europe and Eurasia, and the Western Hemisphere (Canada, Central and South America, Mexico, and the Caribbean). Please note that applications that propose projects focused on Western Europe will not be funded.

Under 34 CFR 75.105(c)(3) we consider only applications that meet the priority.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs and additional discretionary grant competitions. The Fulbright-Hays Faculty Research Abroad Fellowship Program—CFDA 84.019A is one of the programs included in the pilot project.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

• You may access the electronic grant application for the Fulbright-Hays Faculty Research Abroad Program at: http://e-grants.ed.gov.

We have included additional information about the e-APPLICATION pilot project (see Parity Guidelines between Paper and Electronic Applications) in the application package.

Note 1: An applicant institution of higher education must submit all of its applications in either electronic or paper format. Faculty interested in funding under this program must check with the applicant institution to see which method of submission the institution will use.

Note 2: Please note that due to the Department's end of the fiscal year close out activities, the e-APPLICATION system will be unavailable October 1. It will become available for users again on Wednesday, October 2.

For Applications and Further Information Contact: The application for this program is available at: http://www.ed.gov/offices/OPE/HEP/iegps/fra.html.

Eliza Washington or Amy Wilson, International Education and Graduate Programs Service, U.S. Department of Education, 1990 K Street, NW., Suite 6000, Washington, DC 20006-8521. Telephone: (202) 502-7700 or via Internet: fra@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in PDF at the following site: http://www.ed.gov/offices/OPE/HEP/iegps/.

Note: The official version of this document is the document published in the Federal Register. Free Internet access to the official edition of the Federal Register and the Code of Federal Regulations is available on GPO Access at: http://www.access.gpo.gov/nara/index.html.

Program Authority: 22 U.S.C. 2452(b)(6).

Dated: September 13, 2002.
Sally L. Stroup,
Assistant Secretary, Office of Postsecondary Education.

[FR Doc. 02-23721 Filed 9-17-02; 8:45 am]

BILLING CODE 4000-01-P